DEPARTMENT OF STATE

[Public Notice 3382]

Bureau of Educational and Cultural Affairs Request for Proposals: Bilkent University (Turkey) Student Teacher Internship Program; Notice: Request for Proposals

SUMMARY: The Office of Global Educational Programs of the Bureau of Educational and Cultural Affairs announces an open competition for the Bilkent University Student Teacher Internship Program. University schools of education meeting the provisions described in IRS regulation 26 CFR 1.501(c) may submit proposals to administer an eight-week teacher training program for graduate students of education from Bilkent University, a private institution in Ankara, Turkey. The focus of the internship is to familiarize participants with student-centered teaching methods and the use of technology in the classroom. Interested organizations must have strong contacts with local school districts, preferably in both their own and neighboring states in order to provide exposure to different educational approaches. The successful proposal will demonstrate the organization's experience in international educational exchange and internship programs, and an understanding of Turkish history, culture, religion and education. Internship schools may be public, private, magnet or charter schools, but should exemplify best practices.

Program Information

Background

The participants will be graduate students enrolled in Bilkent University Graduate School of Education's MA in Teacher Education, an innovative Master's Degree program to train high school level teachers of all subjects in constructivist, student-centered teaching methods. Endorsed by the Turkish Ministry of Education, this is the first program of its kind in the country. Bilkent course requirements include civic education, the history of civilization, and classical texts in humanities and political philosophy. Students will have completed one year of academic work before their internships in the U.S. Twenty-five English-speaking student teachers will be selected by Bilkent University and the Fulbright Commission in Turkey. Following the internship, the students will return to Bilkent for approximately seven more months of academic study.

In the long-term, this program is expected to assist Turkish educators as they prepare students to live in an increasingly interdependent world. Additional background information on Bilkent University and the Turkish educational system can be found in the Program Objectives, Goals and Implementation (POGI) document.

Objectives

The goal of the eight-week program is to provide participants with thorough exposure to student-centered teaching approaches and the use of technology in American schools. After an academic and cross-cultural orientation in the U.S., the teachers will be placed in small groups at local schools. Student teachers will be paired with experienced U.S. teachers whose fields of study match their own. Internship activities will include: observing a variety of teaching methods (inquiry, active classroom, group projects, etc.) as well as computer-based lessons; working individually with a mentor teacher on curriculum development; and team teaching. While the greatest emphasis is placed on immersing student teachers actively in the American classroom environment, experiential learning will be complemented by professional development seminars on related topics. The internship and seminars will also help participants to create a curriculum development project or portfolio.

Components of U.S. Program

• Orientation (2-4 days): introduction to U.S. government as it relates to education, U.S. education system, American culture through site visits and a cross-cultural adjustment seminar;

• Site visits in school districts (2-3 days): to all levels and types of schools, including economically and ethnically diverse schools;

• Internships in high schools (6 weeks): each student teacher will work individually with a mentor teacher; activities include classroom observation, team teaching, and cultural presentations;

• Exposure to local school governance: through such activities as attendance at faculty, board of education, and PTA meetings;

• Professional development seminars to complement school-based training: topics may include classroom management, conflict resolution, diversity, and curriculum development. Seminars may be dispersed throughout the six weeks or take place in the form of a mid-program conference/debriefing;

• Final debriefing (1-2 days): Student teachers will share what they have observed and learned, perhaps through presentations they make to each other;

• Curriculum development project: By the end of the eight-week program, the student teachers will complete a project, incorporating a new teaching method or technology that they will find useful in conjunction with a course at Bilkent University or in the classroom when they begin to teach. This component is crucial for continuity and impact of the U.S. experience;

• Cultural experiences: This should include interaction with the local community through home stays and non-school-based groups, activities reflecting the diversity of American society, and opportunities for participants to speak about Turkish history and culture.

Grantee's Responsibilities

• Locate school districts to host groups for internships through informal competition (schools must submit brief proposal outlining their interest, understanding of goals, examples of best practices, and commitment to mentoring). School districts should be reasonably near the administering organization, but may be located in different states if feasible, to expose participants to more than one educational system or approach;

• Conduct orientation, professional development seminars and debriefing;

• Monitor and evaluate the program;

• Administer all participant logistics: international transportation, ground transportation to local schools and training sites, participant per diem and housing, U.S. government forms such as tax and social security, etc.

• Arrange for home stays, perhaps through local schools or other participating organization; if home stays are not available, arrange other cost efficient housing; home stay hosts, as well as schools, should be sensitive to accommodating participants' religious observance;

• Administer all financial aspects of the program and comply with reporting requirements;

• Plan follow-on activities with host schools and participants in conjunction with participants' academic program.

The Fulbright Commission in Turkey will assist in obtaining international airline tickets, visas, and health insurance. The grantee will pay the airline office in Ankara for air tickets. There will be no cost to the program for visas and insurance. The Fulbright Commission will also conduct a pre-departure orientation and post-program evaluation. The grantee will coordinate with the Fulbright Commission in Turkey on all non-U.S. based aspects of program administration. The proposal should address mechanisms for communication and coordination.

The grantee will coordinate with the Fulbright Teacher Exchange Branch in the Bureau of Educational and Cultural Affairs regarding all U.S.-based activities, reporting and evaluation.

It is envisioned that, contingent upon availability of funding and successful completion of the program, this program may be renewed for two more years, thus training a corps of 75 student teachers in new student-centered teaching methods and classroom technology. It will be important for the grantee to help create a network for participants to communicate and support each other in using the new methodologies after they have become teachers. A strong proposal will address follow-on activities in conjunction with the Fulbright Commission and Bilkent University (without Bureau funding) to increase future impact and participant support.

The grant will begin on or about March 1, 2001 and the grantee should complete all exchange activities by May, 2002. The internship program will take place in October-November, 2001. Please refer to additional program specific guidelines in the Project Objectives, Goals, and Implementation (POGI) document.

Programs must comply with J-1 visa regulations. Please refer to Solicitation Package for further information.

Budget Guidelines

Since grants awarded to eligible organizations with fewer than four years of experience in coordinating international exchanges are limited to $60,000, such organizations are not eligible to compete for this grant.

Applicants must submit a comprehensive budget for the entire program. Maximum funding available for this program is $170,000. There must be a summary budget as well as breakdowns reflecting both administrative and program budgets. Applicants may provide separate sub-budgets for each program component, phase, location, or activity to provide clarification. Cost-sharing is encouraged. Allowable costs for the program, on a per participant basis, include the following:

1. International Travel

2. U.S. Ground Transportation

3. Host Schools (for administrative costs)

4. Professional Development Seminars/Conference and Debriefing (instruction, materials, logistics)

5. Participant lodging and per diem

6. Cultural Activities

7. Book Allowance/Shipping

8. Grantee Administrative Costs

Please refer to the Solicitation Package for complete budget guidelines and formatting instructions.

Announcement Title and Number

All correspondence with the Bureau concerning this RFP should reference the above title and number ECA/A/S/X-01-02.

FOR FURTHER INFORMATION CONTACT: The Teacher Exchange Branch of the Office of Global Educational Programs, ECA/A/S/X, Room 349, U.S. Department of State, 301 4th Street, SW., Washington, DC 20547, telephone: 202-619-4568, fax: 202-401-1433, e-mail: rwaldste@pd.state.gov, to request a Solicitation Package. The Solicitation Package contains detailed award criteria, required application forms, specific budget instructions, and standard guidelines for proposal preparation. Please specify Bureau Program Officer Rachel Waldstein on all other inquiries and correspondence.

Please read the complete Federal Register announcement before sending inquiries or submitting proposals. Once the RFP deadline has passed, Bureau staff may not discuss this competition with applicants until the proposal review process has been completed.

To Download a Solicitation Package Via Internet

The entire Solicitation Package may be downloaded from the Bureau's website at http://exchanges.state.gov/education/rfps. Please read all information before downloading.

Deadline for Proposals

All proposal copies must be received at the Bureau of Educational and Cultural Affairs by 5 p.m. Washington, DC time on Monday, November 6. Faxed documents will not be accepted at any time. Documents postmarked the due date but received on a later date will not be accepted. Each applicant must ensure that the proposals are received by the above deadline.

Applicants must follow all instructions in the Solicitation Package. The original and seven copies of the application should be sent to: U.S. Department of State, SA-44, Bureau of Educational and Cultural Affairs, Ref.: ECA/A/S/X-01-02, Program Management, ECA/EX/PM, Room 336, 301 4th Street, S.W., Washington, D.C. 20547.

Applicants must also submit the “Executive Summary” and “Proposal Narrative” sections of the proposal on a 3.5” diskette, formatted for DOS. These documents must be provided in ASCII text (DOS) format with a maximum line length of 65 characters. The Bureau will transmit these files electronically to the Public Affairs section at the US Embassy for its review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Proposals should reflect advancement of this goal in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be forwarded to panels of Bureau officers for advisory review. Proposals may also be reviewed by the Office of the Legal Adviser or by other Department elements. Final funding decisions are at the discretion of the Department of State's Under Secretary for Public Diplomacy and Public Affairs. Final technical authority for assistance awards (grants or cooperative agreements) resides with the Bureau's Grants Officer.

Review Criteria

Technically eligible applications will be competitively reviewed according to the criteria stated below. These criteria are not rank ordered and all carry equal weight in the proposal evaluation:

1. Quality of the program idea

2. Program planning and ability to achieve program objectives

3. Cross-Cultural Sensitivity

4. Support of Diversity

5. Institutional Capacity and Record

6. Impact/Follow-on Activities

7. Project Evaluation

8. Cost-effectiveness/Cost-sharing

Please see the Program Objectives, Goals and Implementation (POGI) document for a more detailed description of Review Criteria.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation and is subject to availability of Congressional funding.

Notice

The terms and conditions published in this RFP are binding and may not be modified by any Bureau representative. Explanatory information provided by the Bureau that contradicts published language will not be binding. Issuance of the RFP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: July 31, 2000.
Evelyn S. Lieberman,
Under Secretary for Public Diplomacy and Public Affairs, U.S. Department of State.

[FR Doc. 00-20326 Filed 8-9-00; 8:45 am]

BILLING CODE 4710-11-P